DEPARTMENT OF EDUCATION

Privacy Act of 1974; Computer Matching Program

AGENCY: Department of Education.

ACTION: Notice.

Overview Information: Privacy Act of 1974; Computer Matching Program between the U.S. Department of Education and the Department of Homeland Security, U.S. Citizenship and Immigration Services, formerly the Immigration and Naturalization Service

SUMMARY: This document provides notice of the continuation of a computer matching program between the Department of Education and the Department of Homeland Security, U.S. Citizenship and Immigration Services. The continuation is effective on the date in paragraph 5.

SUPPLEMENTARY INFORMATION: We provide this notice in accordance with the Privacy Act of 1974 (5 U.S.C. 552a), as amended by the Computer Matching and Privacy Protection Act of 1988 (Pub. L. 100-503) and the Computer Matching and Privacy Protections Amendments of 1990 (Pub. L. 101-508) (Privacy Act); Office of Management and Budget (OMB) Final Guidance Interpreting the Provisions of Public Law 100-503, the Computer Matching and Privacy Protection Act of 1988, 54 FR 25818 (June 19, 1989); and OMB Circular A-130, Appendix I, 65 FR 77677 (December 12, 2000).

1. Names of Participating Agencies

The U.S. Department of Education (ED) and the U.S. Department of Homeland Security, Citizenship and Immigration Services (USCIS).

2. Purpose of the Match

The matching program entitled “Verification Division USCIS/ED” will permit ED to confirm the immigration status of alien applicants for, or recipients of, financial assistance under title IV of the Higher Education Act of 1965, as amended (HEA), as authorized by section 484(g) of the HEA (20 U.S.C. 1091(g)). The title IV programs include: The Federal Pell Grant Program, the Teacher Education Assistance for College and Higher Education (TEACH) Grant Program, the Iraq and Afghanistan Service Grant Program, the Federal Perkins Loan Program, the Federal Work-Study Program, the Federal Supplemental Educational Opportunity Grant Program, the William D. Ford Federal Direct Loan Program, and the Gaining Early Awareness and Readiness for Undergraduate Programs.

3. Authority for Conducting the Matching Program

The information contained in the USCIS database is referred to as the Verification Information System (VIS), which is authorized under the Immigration Reform and Control Act of 1986 (IRCA), Public Law 99-603. ED seeks access to VIS for the purpose of confirming the immigration status of applicants for assistance, as authorized by section 484(g) of the HEA, 20 U.S.C. 1091(g), and consistent with the title IV student eligibility requirements of section 484(a)(5) of the HEA, 20 U.S.C. 1091(a)(5). USCIS is authorized to participate in this immigration status verification under section 103 of the Immigration and Nationality Act, as amended, 8 U.S.C. 1103.

4. Categories of Records and Individuals Covered

The records to be used in the match and the roles of the matching participants are: Through the use of user identification codes and passwords, authorized persons from ED will transmit electronically data from its Privacy Act system of records entitled, “Federal Student Aid Application File (18-11-01)” to USCIS. The data will include the alien registration number, the first and last name, date of birth, current social security number, and gender of the alien applicant for, or recipient of, title IV, HEA program assistance. This action will initiate a search for corresponding data elements in a USCIS Privacy Act system of records entitled “Verification Information System Records Notice (DHS-2007-0010).” Where there is a match of records, the system will add the following data to the record and return the file to ED: The primary or secondary verification number, the date of entry into the U.S., the country of birth, the USCIS status code of the alien applicant or recipient, and a code indicating that the alien applicant or recipient was confirmed to be an eligible non-citizen or that this determination could not be made.

In accordance with 5 U.S.C. 552a(p), ED will not suspend, terminate, reduce, or make a final denial of any title IV, HEA program assistance to such individual, or take other adverse action against such individual, as a result of information produced by such a match, until (1)(a) ED has independently verified the information; or (b) the Data Integrity Board of ED determines in accordance with guidance issued by the Director of the OMB that (i) the information is limited to identification and amount of benefits paid by ED under a Federal benefit program; and (ii) there is a high degree of confidence that the information provided to ED is accurate; (2) the individual receives a notice from ED containing a statement of its findings and informing the individual of the opportunity to contest such findings by submitting documentation demonstrating a satisfactory immigration status within 30 days of receipt of the notice; and (3) 30 days from the date of the individual's receipt of such notice has expired.

5. Effective Dates of the Matching Program

The matching program will be effective on the latest of the following three dates: (A) October 18, 2012; (B) 30 days from the date ED publishes a Computer Matching Notice in the Federal Register as required by 5 U.S.C. 552a(e)(12); or, (C) 40 days from the date that ED transmits the report of the matching program, as required by 5 U.S.C. 552a(r), to OMB, the U.S. House Committee on Oversight and Government Reform, and the U.S. Senate Committee on Homeland Security and Governmental Affairs, unless OMB waives 10 days of the 40 day review period for compelling reasons, in which case 30 days from the date of ED's transmittal of the matching program report.

The matching program will continue for 18 months after the effective date and may be extended for an additional 12 months thereafter, if the conditions specified in 5 U.S.C. 552a(o)(2)(D) have been met.

6. Address for Receipt of Public Comments or Inquires

Individuals wishing to comment on this matching program or obtain additional information about the program, including requesting a copy of the computer matching agreement between ED and DHS, may contact Mrs. Franka Dennis, Management and Program Analyst, U.S. Department of Education, Federal Student Aid, Union Center Plaza, 830 First Street NE., Washington DC 20002-5345. Telephone: (202) 377-4067. If you use a telecommunications device for the deaf (TDD) or a text telephone (TTY), call the Federal Relay Service (FRS), toll free, at 1-800-877-8339.

Accessible Format: Individuals with disabilities can obtain this document in an accessible format (e.g., braille, large print, audiotape or compact disc) on request to the contact person listed in the preceding paragraph.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: 5 U.S.C. 552a; Public Law 100-503.

Delegation of Authority: The Secretary of Education has delegated authority to James F. Manning, Chief of Staff to perform the functions and duties of the Chief Operating Officer.

Dated: September 11, 2012.
James F. Manning,
Chief of Staff, Federal Student Aid delegated the authority to perform the functions and duties of the Chief Operating Officer.

[FR Doc. 2012-22728 Filed 9-13-12; 8:45 am]

BILLING CODE 4000-01-P